DEPARTMENT OF HEALTH AND HUMAN SERVICES

Administration for Children and Families

Proposed Information Collection Activity; Comment Request

Title: Identifying Promising Temporary Assistance for Needy Families (TANF) Diversion Practices.

OMB No.: New Collection.

Description: The Identifying Promising TANF Diversion Practices study is designed to understand States' and local offices' TANF diversion policies and practices. Since the passage of the Personal Responsibility and Work Opportunity Reconciliation Act of 1996, a majority of States have implemented formal diversion programs that provide assistance to families and/or impose program requirements on them when they apply for TANF in order to reduce the number of families who enroll in the program. These programs can send a strong signal to applicants that TANF is a work-oriented program and/or prevent applicants' need to use time-limited welfare benefits. States have implemented three types of formal diversion programs: (1) Lump-sum payment programs targeted to work-ready applicants to help them through short-term crises; (2) ``up-front'' program requirements, such as mandatory participation in a program orientation or job search as a condition of eligibility; and (3) hybrid programs that provide short-term cash assistance and impose up-front requirements. The Administration for Children and Families has contracted with Mathematica Policy Research, Inc. to learn more about States' implementation of these programs and to identify best practices.

The study consists of a survey of States and in-depth visits to local sites. The survey of States will be administered in four stages: (1) A State survey to the TANF director in all 50 States and the District of Columbia to obtain a profile of States' diversion policies and practices; (2) a semi-structured, one-hour follow-up telephone interview with the State TANF director or designee in an estimated 35 States with States with current diversion programs to gather additional information about these programs; (3) a semi-structured, 20-minute telephone interview with the State TANF director or designee in other States without current diversion programs to learn about future plans for diversion programs; and (4) a semi-structured, one-hour telephone interview with local TANF administrators from 30 selected local offices in States that provide local flexibility in administering diversion policies to learn about their practices.

To further understand the local implementation of diversion policies and practices, the study includes site visits to two local offices in each of three States with promising diversion programs. In each office, interviews will be conducted with one TANF administrator, an average of two supervisors or mid-level management staff members, an average of three line staff members, and an average of two staff members from partner organizations. Site visitors also will observe selected activities, such as intake, orientation, and job search.

Respondents: State TANF directors and administrators and local TANF administrators and line staff.

Annual Burden Estimates
Instrument | Number of respondents | Number of responses per respondent | Average burden hours per response | Total burden hours
Survey of States
Stage 1: State Survey | 51 | 1 | 0.2 | 10.2
Stage 2: Interview State TANF Director with Diversion Program | 35 | 1 | 1.0 | 35.0
Stage 3: Interview State TANF Director without Diversion Program | 16 | 1 | 0.3 | 4.8
Stage 4: Interview Local TANF Administrator | 30 | 1 | 1.0 | 30.0
Site Visit Protocols
Administrator | 6 | 1 | 1.5 | 9.0
Supervisor | 12 | 1 | 1.0 | 12.0
Line Staff | 18 | 1 | 1.0 | 18.0
Partner Organization | 12 | 1 | 1.0 | 12.0
Observation | 12 | 1 |  |

Estimated Total Annual Burden Hours: 131.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: November 9, 2006.
Robert Sargis,
Report Clearance Officer.

[FR Doc. 06-9223 Filed 11-15-06; 8:45 am]

BILLING CODE 4184-01-M